DEPARTMENT OF DEFENSE

Department of the Army, Corps of Engineers

Development of the National Levee Safety Program

AGENCY: U.S. Army Corps of Engineers, DoD.

ACTION: Notice.

SUMMARY: The U.S. Army Corps of Engineers (USACE) and the Federal Emergency Management Agency (FEMA) are launching a new National Levee Safety Program, authorized by the National Levee Safety Act of 2007. The purpose of the National Levee Safety Program is to improve the way levees are managed throughout the United States and its territories in order to reduce disaster suffering and improve the resiliency of communities behind levees. There are four major components that are intended to work together to accomplish the goals of the program: National Levee Safety Guidelines; Integrated Levee Management; National Levee Database and Data Collection; and Implementation Support. This notice announces the start of Phase 1 which is the solicitation of input on the purpose and scope of each of the components of the National Levee Safety Program in order to develop priorities and options for their implementation.

DATES: Comments related to the purpose and scope of the National Levee Safety Program must be submitted on or before March 31, 2022.

ADDRESSES: You may submit comments identified by docket number COE-2021-0007 by any of the following methods:

Federal eRulemaking Portal: Visit www.regulations.gov and follow the instructions for submitting comments.

Email: Send an email to hq-leveesafety@usace.army.mil and include the docket number, COE-2021-0007, in the subject line of the message.

Mail: U.S. Army Corps of Engineers Vicksburg District, ATTN: Levee Safety Center—RM 221, 4155 East Clay Street, Vicksburg, MS 39183.

Hand Delivery/Courier: Due to security requirements, we cannot receive comments by hand delivery or courier.

Instructions: If submitting comments through the Federal eRulemaking Portal, direct your comments to docket number COE-2021-0007. All comments received will be included in the public docket without change and may be made available on-line at www.regulations.gov, including any personal information provided, unless the commenter indicates that the comment includes information claimed to be Confidential Business Information (CBI) or other information whose disclosure is restricted by statute. Do not submit information that you consider to be CBI, or otherwise protected, through regulations.gov or email. The regulations.gov website is an anonymous access system, which means we will not know your identity or contact information unless you provide it in the body of your comment. If you send an email directly to USACE without going through regulations.gov, your email address will be automatically captured and included as part of the comment that is placed in the public docket and made available on the internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to www.regulations.gov. All documents in the docket are listed. Although listed in the index, some information is not publicly available, such as CBI or other information whose disclosure is restricted by statute. Certain other material, such as copyrighted material, is not placed on the internet and will be publicly available only in hard copy form.

FOR FURTHER INFORMATION CONTACT: Ms. Tammy Conforti at 202-365-6586, email hq-leveesafety@usace.army.mil or visit www.leveesafety.org.

SUPPLEMENTARY INFORMATION: One of the foundations of the National Levee Safety Program is stakeholder engagement with those who are responsible for, are impacted by, or have interest in levees and related policies including federal/state/local governments, tribes, levee owners/operators, businesses, floodplain managers and residents. The goals for the stakeholder engagement process are to:

1. Understand the needs of the stakeholders this program is intended to support;

2. provide opportunities for meaningful input to shape decisions and outcomes on program design, components, and products; and,

3. ensure that the unique challenges related to levees faced by disadvantaged communities and tribes are well understood and incorporated into solutions.

The purpose of the National Levee Safety Program is to improve the way levees are managed throughout the United States and its territories in order to reduce disaster suffering and improve the resiliency of communities behind levees. Managing flood risk is a shared responsibility between federal, tribal, state, and local entities. USACE and FEMA are interested in the views of the public regarding how the National Levee Safety Program and each of its components can be implemented to best serve those responsible for and impacted by flood risk management efforts. The four major components of the National Levee Safety Program are intended to work together to accomplish the goals of the program: National Levee Safety Guidelines; Integrated Levee Management; National Levee Database and Data Collection; and Implementation Support. There are fact sheets and additional information introducing each of these components at www.leveesafety.org.

USACE and FEMA will be seeking feedback from stakeholders at various phases of the program's development over the next 2-3 years. Phase 1 is starting during the Winter of 2021 with a focus on gathering initial input on the purpose and scope of each of the components of the National Levee Safety Program to better understand the needs and priorities of the public. Phase 2 is anticipated to occur during the Summer of 2022 with a focus on soliciting feedback on priorities and options identified during Phase 1 (scoping). Phase 3 is anticipated to occur during the Fall of 2023 with a focus on soliciting feedback on draft program implementation products. During each phase, stakeholders will be able to submit comments through a variety of methods. Each phase will have an open comment period under docket number COE-2021-0007. For more information about the program, its key components, and opportunities to get involved please visit www.leveesafety.org.

During Phase 1 of program development, USACE will be hosting seven public meetings and four public webinars to provide an overview of the program and its key components and opportunities for submitting feedback. There will be a 100-person limit for each public meeting and webinar. To attend an in-person public meeting, you must be fully vaccinated for COVID-19 and may be required to provide proof of vaccination before entry into the meeting. For information about the public meetings and webinars, including how to register to attend, visit www.leveesafety.org.

Questions to Shape the Focus of the Program: Commentors are encouraged to use the following questions to guide their feedback on the purpose and scope of the National Levee Safety Program and its components as described at www.leveesafety.org:

Overall Program Focus and Purpose

1. Do you believe the stated vision/mission/objectives of a national approach will significantly improve levee safety in the Nation in the future? Any suggestions for improvement?

2. Do you understand the general approach for the development of the program (e.g., stakeholder engagement, key components, etc.)? If not, what is unclear? Any suggestions for improvements?

3. What is the single most important challenge related to levees you think this program should try to help address? Do you see it adequately addressed in this approach?

National Levee Safety Guidelines

1. Which topics do you think you will find the most useful? Why?

2. Are there any missing topics that you think should be included?

3. Are there any areas of content where templates, specific methodologies, tools, or other aids would be particularly helpful to you?

Integrated Levee Management

1. Is clarifying the roles and responsibilities for levee related activities at the federal, tribal, state, levee owner, and community levels the right place to start or are we missing anyone?

2. What is the biggest value of standing up state levee safety programs?

3. What do you think would be the most important activities for state levee safety programs?

4. Other than funding, what are the biggest barriers states might have in standing up levee safety programs?

5. For the states/tribes/regional district grants, the legislation reserves 25 percent be used to identify and assess non-Federal levees, but what other priorities or activities should the remaining 75 percent of grant funding go towards?

6. Are there any federal programs that are hampering your ability or providing a disincentive to adequately perform flood risk or levee management activities? If so, please explain?

7. Where do you see opportunities for federal programs to be adjusted/realigned/reprioritized to better support flood risk management/levee safety in communities with levees?

National Levee Database and Data Collection

1. What are the most important decisions you need to make to improve flood risk management decisions in your community or on your levee? What data do you most need to support these decisions?

2. How might USACE encourage participation of levee owners or states in either providing levee information or participating in USACE-led levee inspections and risk assessments?

3. What types of levee information is most meaningful to people who live and work behind levees? What role can/should the National Levee Database play in providing this information?

These scoping questions, along with background information on the National Levee Safety Program and its key components, can be found at www.leveesafety.org.

Michael L. Connor,
Assistant Secretary of the Army (Civil Works).

[FR Doc. 2021-28056 Filed 12-27-21; 8:45 am]

BILLING CODE 3720-58-P